DEPARTMENT OF JUSTICE

Notice of Lodging of Consent Decree Pursuant to the Comprehensive Environmental Response, Compensation, and Liability Act

In accordance with Department policy, the Department of Justice gives notice that a proposed partial consent decree in the consolidated cases captioned United States v. Cantrell, et al., Civil Action No. C-1-97-981 (S.D. Ohio) and United States v. Ohio Power Co., et al., Civil Action No. C-1-98-247 (S.D. Ohio) was lodged with the United States District Court for the Southern District of Ohio, Western Division, on September 1, 2000, pertaining to the Automatic Containers Superfund Site (the “Site”), located near Ironton, in Lawrence County, Ohio. The proposed consent decree would resolve certain civil claims of the United States for recovery of unreimbursed past response costs under section 107 of the Comprehensive Environmental Response, Compensation and Liability Act, as amended (“CERCLA”), 42 U.S.C. 9607, against one defendant, Amcast Industrial Corporation (“Amcast”).

Through seven prior partial consent decrees approved by the Court, the United States settled with 34 first-party and third-party defendants, recovering nearly $960,000 in CERCLA response costs that the United States has to date incurred in connection with the Site. The proposed consent decree, captioned “Partical Consent Decree with Settling Defendant Amcast Industrial Corporation (f/k/a Dayton Malleable, Inc.),” would provide for payment of an additional $650,000, which is substantially all of the United States' remaining past response costs for the Site. The proposed Consent Decree also would constitute a declaratory judgment that Amcast is responsible for any future CERCLA response costs associated with the Site.

The Department of Justice will receive, for a period of thirty (30) days from the date of this publication, comments relating to the proposed consent decree. Comments should be addressed to the Assistant Attorney General, Environment and Natural Resources Division, United States Department of Justice, Washington, D.C. 20530, and should refer to United States v. Cantrell, et al., Civil Action No. C-1-97-981 (S.D. Ohio) and United States v. Ohio Power Co., et al., Civil Action No C-1-98-247 (S.D. Ohio), and DOJ Reference Nos. 90-11-3-1756 and 90-11-3-1756/1.

The proposed consent decree may be examined at: (1) the Office of the United States Attorney for the Southern District of Ohio, 220 U.S. Courthouse, 100 East Fifth Street, Cincinnati, Ohio 45202 (contact Gerald Kaminski (513-684-3711)); and (2) the United States Environmental Protection Agency (Region 5), 77 West Jackson Boulevard, Chicago, Illinois 60604-3590 (contact Mony Chabria (312-886-6842)). A copy of the proposed consent decree may also be obtained by mail from the Department of Justice Consent Decree Library, P.O. Box 7611, Washington, DC 20044. In requesting copies, please refer to the referenced cases and DOJ Reference Numbers, and enclose a check for $6.50 (26 pages at 25 cents per page reproduction cost), made payable to the Consent Decree Library.

Walker B. Smith,
Deputy Chief, Environmental Enforcement Section, Environment and Natural Resources Division.

[FR Doc. 00-24082 Filed 9-19-00; 8:45 am]

BILLING CODE 4410-15-M